DEPARTMENT OF THE TREASURY

Internal Revenue Service

26 CFR Part 1

[REG-140280-09]

RIN 1545-BK16

Tax Return Preparer Penalties Under Section 6695; Correction

AGENCY: Internal Revenue Service (IRS), Treasury.

ACTION: Correction to notice of proposed rulemaking and notice of public hearing.

SUMMARY: This document contains a correction to a notice of proposed rulemaking and notice of public hearing (REG-140280-09) that would modify existing regulations related to the tax return preparer penalties under section 6695 of the Internal Revenue Code. The document was published in the Federal Register on Tuesday, October 11, 2011 (76 FR 62689).

FOR FURTHER INFORMATION CONTACT: Concerning these proposed regulations, Spence Hanemann, (202) 622-4940 (not a toll-free number).

SUPPLEMENTARY INFORMATION:

Background

The correction notice that is the subject of this document is under section 6695 of the Internal Revenue Code.

Need for Correction

As published, a notice of proposed rulemaking and notice of public hearing (REG-140280-09) contains an error that may prove to be misleading and is in need of clarification.

Correction of Publication

Accordingly, the publication of a notice of proposed rulemaking and notice of public hearing (REG-140280-09), which was the subject of FR Doc. 2011-26247, is corrected as follows:

On page 62690, column 2, in the preamble, under the paragraph heading “Explanation of Provisions”, first paragraph of the column, line 17, the language “proposed § 1.6695-2(c)(2) provides that,” is removed and is replaced with the new language “proposed § 1.6695-2(c)(3) provides that,”.

LaNita Van Dyke,
Chief, Publications and Regulations Branch, Legal Processing Division, Associate Chief Counsel (Procedure and Administration).

[FR Doc. 2011-27183 Filed 10-19-11; 8:45 am]

BILLING CODE 4830-01-P